DEPARTMENT OF DEFENSE

Department of the Air Force

[No. USAF-2007-0021]

Proposed Collection; Comment Request

AGENCY: Headquarters, Air Force Reserve Officer Training Corps (AFROTC), Department of Defense.

ACTION: Notice.

In compliance with Section 3506(c)(2)(A) of the Paperwork Reduction Act of 1995, Headquarters, Air Force Reserve Officer Training Corps (AFROTC) scholarship program announces the proposed extension of a public information collection and seeks public comment on the provisions thereof. Comments are invited on: (a) Whether the proposed collection of information is necessary for the proper performance of the functions of the agency, including whether the information shall have practical utility; (b) the accuracy of the agency's estimate of the burden of the proposed information correction; (c) ways to enhance the quality, utility, and clarity of the information to be collected; and (d) ways to minimize the burden of the information collection on respondents, including through the use of automated collection techniques or other forms of information technology.

DATES: Consideration will be given to all comments received by August 14, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submission from members of the public is to make these submissions available for public viewing on the Internet at http://www.regulations.gov as they are received without change, including any personal identifiers or contact information.

FOR FURTHER INFORMATION CONTACT: To request more information this proposed information collection or to obtain a copy of the proposal and associated collection instruments, please write to The AFROTC Scholarship Program, ATTN: Mr. Jack Sanders, 551 E. Maxwell Blvd, Maxwell AFB AL 36112402, or telephone Mr. Sanders at 334-953-2869.

Title and OMB Number: AFROTC Scholarship Program On Line Application, OMB Control Number 0701-0101.

Needs and Uses: The AFROTC scholarship application is required for completion by high school seniors and recent graduates for the purpose of competing for an AFROTC 4 year scholarship. Respondents must complete and submit their application via the AFROTC.com Web site. Submitted data will be evaluated by AFROTC scholarship selections boards to determine eligibility and to select individuals for the award of a college scholarship.

Affected Public: High school seniors and recent graduates who apply for an AFROTC scholarship.

Annual Burden Hours: 8,500.

Number of Respondents: 17,000.

Responses per Respondent: 1.

Average Burden per Response: 30 minutes.

Frequency: On occasion.

SUPPLEMENTARY INFORMATION:

Summary of Information Collection

The following is required to be provided by the applicant and maintained by AFROTC. Names, addresses, SSANs, telephone numbers, transcripts, and resumes.

Dated: June 6, 2007.
Patricia L. Toppings,
Alternate OSD Federal Register Liaison Officer, Department of Defense.

[FR Doc. 07-2953 Filed 6-14-07; 8:45 am]

BILLING CODE 5001-06-M